ENVIRONMENTAL PROTECTION AGENCY

40 CFR Part 52

[EPA-HQ-OAR-2010-0107; FRL-9190-1]

RIN-2060-AQ45

Action To Ensure Authority To Issue Permits Under the Prevention of Significant Deterioration Program to Sources of Greenhouse Gas Emissions: Federal Implementation Plan

AGENCY: Environmental Protection Agency (EPA).

ACTION: Notice of public hearing.

SUMMARY: The EPA is announcing a public hearing to be held for the proposed rule “Action to Ensure Authority to Issue Permits under the Prevention of Significant Deterioration Program to Sources of Greenhouse Gas Emissions: Federal Implementation Plan” which will publish in the near future in the Federal Register. The hearing will be held on September 14, 2010, in Arlington, VA.

DATES: The public hearing will be held on September 14, 2010.

ADDRESSES: The September 14, 2010 hearing will be held at the EPA Ariel Rios East building, Room 1153, 1301 Constitution Avenue, Washington, DC 20460. The public hearing will convene at 9 a.m. (Eastern standard time) and continue until the later of 6 p.m. or 1 hour after the last registered speaker has spoken. The EPA will make every effort to accommodate all speakers that arrive and register. A lunch break is scheduled from 12:30 p.m. until 2 p.m. Because this hearing is being held at U.S. government facilities, individuals planning to attend the hearing should be prepared to show valid picture identification to the security staff in order to gain access to the meeting room. In addition, you will need to obtain a property pass for any personal belongings you bring with you. Upon leaving the building, you will be required to return this property pass to the security desk. No large signs will be allowed in the building, cameras may only be used outside of the building, and demonstrations will not be allowed on federal property for security reasons. The EPA Web Site for the rulemaking, which includes the proposal and information about the public hearing, can be found at: http://www.epa.gov/nsr.

FOR FURTHER INFORMATION CONTACT: If you would like to present oral testimony at the public hearing, please contact Ms. Pamela Long, U.S. Environmental Protection Agency, Office of Air Quality Planning and Standards, Air Quality Planning Division, (C504-03), Research Triangle Park, NC 27711, telephone (919) 541-0641, fax number (919) 541-5509, e-mail address: long.pam@epa.gov (preferred method for registering), no later than September 10, 2010. If using e-mail, please provide the following information: Time you wish to speak (morning, afternoon, evening), name, affiliation, address, e-mail address, and telephone and fax numbers.

Questions concerning the August 2010 proposed rule should be addressed to Ms. Lisa Sutton, U.S. EPA, Office of Air Quality Planning and Standards, New Source Review Group, (C504-03), Research Triangle Park, NC 27711, telephone number (919) 541-3450, e-mail at sutton.lisa@epa.gov.

SUPPLEMENTARY INFORMATION: The public hearing is to provide the public an opportunity to present oral comments regarding EPA's proposed “Action to Ensure Authority to Issue Permits under the Prevention of Significant Deterioration Program to Sources of Greenhouse Gas Emissions: Federal Implementation Plan,” which proposes a Federal Implementation Plan to apply in any state that is unable to submit, by its deadline, a corrective State Implementation Plan revision to ensure that the state has authority to issue permits under the Clean Air Act's New Source Review Prevention of Significant Deterioration program for sources of greenhouse gases.

Public hearing: The proposal for which EPA is holding the public hearing will publish in the near future in the Federal Register and is available at: http://www.epa.gov/nsr and also in the rulemaking docket. The public hearing will provide interested parties the opportunity to present data, views, or arguments concerning the proposal. The EPA may ask clarifying questions during the oral presentations, but will not respond to the presentations at that time. Written statements and supporting information submitted during the comment period will be considered with the same weight as oral comments and supporting information presented at the public hearing. Written comments on the proposed rule must be postmarked by October 14, 2010, 30 days after the September 14, 2010 hearing.

Commenters should notify Ms. Long if they will need specific equipment, or if there are other special needs related to providing comments at the hearing. The EPA will provide equipment for commenters to show overhead slides or make computerized slide presentations if we receive special requests in advance. Oral testimony will be limited to 5 minutes for each commenter. The EPA encourages commenters to provide EPA with a copy of their oral testimony electronically (via e-mail or CD) or in hard copy form.

The hearing schedule, including lists of speakers, will be posted on EPA's Web Site http://www.epa.gov/nsr. Verbatim transcripts of the hearings and written statements will be included in the docket for the rulemaking.

EPA will make every effort to follow the schedule as closely as possible on the day of the hearing; however, please plan for the hearing to run either ahead of schedule or behind schedule.

How can I get copies of this document and other related information?

The EPA has established a docket for the proposed rule “Action to Ensure Authority to Issue Permits under the Prevention of Significant Deterioration Program to Sources of Greenhouse Gas Emissions: Federal Implementation Plan” under Docket ID No. EPA-HQ-OAR-2010-0107 (available at http://www.regulations.gov).

As stated previously, the proposed rule will publish in the near future in the Federal Register and is available at http://www.epa.gov/nsr and in the rulemaking docket.

Dated: August 24, 2010.
Mary Henigin,
Acting Director, Office of Air Quality Planning and Standards.

[FR Doc. 2010-21691 Filed 8-27-10; 8:45 am]

BILLING CODE 6560-50-P